DEPARTMENT OF COMMERCE

National Institute of Standards and Technology

Information Collection Activities; Submission to the Office of Management and Budget (OMB) for Review and Approval; Comment Request; Small Business Innovation Research (SBIR) Program Application Cover Sheet

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 4, 2023 during a 60-day comment period. This notice allows for an additional 30 days for public comments.

Agency: National Institute of Standards and Technology (NIST), Commerce.

Title: Small Business Innovation Research (SBIR) Program Application Cover Sheet.

OMB Control Number 0693-0072.

Form Number(s): None.

Type of Request: Extension of a current information collection.

Number of Respondents: 138.

Average Hours per Response: 30 minutes.

Burden Hours: 69 hours.

Needs and Uses: The information collected in the Cover Sheet provides identifying information and demographic data for use in NIST's annual report to the SBA on the program. The technical abstract is used in prevention of fraud, waste, and abuse by providing a method to compare similar applications to other agency SBIR programs. The abstract and potential commercial applications of successful applicants are posted on the agency website.

Affected Public: Applicants to the NIST SBIR Program.

Frequency: Annually.

Respondent's Obligation: Mandatory.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0693-0072.

Sheleen Dumas,
Department PRA Clearance Officer, Office of the Under Secretary for Economic Affairs, Commerce Department.

[FR Doc. 2024-00037 Filed 1-4-24; 8:45 am]

BILLING CODE 3510-13-P